DEPARTMENT OF JUSTICE

Antitrust Division

Notice Pursuant to the National Cooperative Research and Production Act of 1993—Robotics Technology Consortium, Inc.

Notice is hereby given that, on July 27, 2011, pursuant to Section 6(a) of the National Cooperative Research and Production Act of 1993, 15 U.S.C. 4301 et seq. (“the Act”), the Robotics Technology Consortium (“RTC”) has filed written notifications simultaneously with the Attorney General and the Federal Trade Commission disclosing changes in its membership. The notifications were filed for the purpose of extending the Act's provisions limiting the recovery of antitrust plaintiffs to actual damages under specified circumstances. Specifically, Advanced Machining, Longmont, CA; Carnegie Robotics LLC, Pittsburgh, PA; Embry-Riddle Aeronautical University, Daytona Beach, FL; EMSolutions, Inc., Arlington, VA; L-3 Communications CyTerra, Woburn, MA; Rehg Enterprises, Atlanta, GA; Segway Robotics, Bedford, MA; Sky Research, Inc., Etna, NH; and Themis Computer, Fremont, CA, have been added as parties to this venture.

Also, Action Engineering, Morrison, CO; Adaptive Materials, Ann Arbor, MI; Advanced Technology Institute (ATI), Charleston, SC; Alion Science and Technology Corporation, Westminister, MD; Alliance Spacesystems, LLC, Pasadena, CA; American GNC Corporation, Simi Valley, CA; Atair Aerospace, Inc., Brooklyn, NY; BFA Systems, Inc., Huntsville, AL; BioMimetic Systems, Cambridge, MA; Braintech, Inc., Washington, DC; Concurrent Technologies, Inc., Pittsburgh, PA; Dragonfly Pictures, Inc., Essington, PA; EDAG Inc., Auburn Hills, MI; Energetics Technology Center, Inc. (ETC), La Plata, MD; Expertise Applications, Inc., San Diego, CA; First Response Robotics, LLC, Amelia, OH; Ibis-Tek, Butler, PA; ICI—Integrated Consultants, Inc., San Diego, CA; Institute for Disabilities Research (IDRT), Wheaton, MD; Intraduce Transit, LLC, Birmingham, AL; Inuktun USA, LLC, Robert, LA; i Track Inc., Oxford, MI; ITT Corporation, Albuquerque, NM; Kairos Autonomi, Sandy, UT; Lawrence Technological University, Southfield, MI; Mel Siegel, Consultant in Science & Technology, Pittsburgh, PA; Mountain Top Technologies, Inc., Johnstown, PA; Navtech GPS, Springfield, VA; Novint Technologies, Inc., Albuquerque, NM; Omnitech Robotics International LLC, Easton, MD; Onvio, LLC, Salem, NH; Pandora Data Systems, Inc., Santa Cruz, CA; Pegasus Global St.rategic Solutions, Reston, VA; PERL Research LLC, Huntsville, AL; Polygon Company, Walkerton, IN; Readylabs, Inc., Pleasanton, CA; RoPro Design Inc., Beaver, PA; Sensable Technologies, Inc., Woburn, MA; Shee Atika Technologies, LLC, Kirkland, WA; SJ Automation LLC, Monterey, CA; Smart Information Flow Technologies, LLC (SIFT), Minneapolis, MN; Springfield Electric Supply Co., Inc., Springfield, IL; Stealth Robotics, LLC, Longmont, CO; Sullivan Advanced Technology, San Diego, CA; TBI, LLC, Washington, DC; Tech Team Government Solutions, Ann Arbor, MI; The Technology Collaborative (NCDR), Pittsburgh, PA; The University of Texas at Arlington, Arlington, TX; Three Rivers 3D, Inc., Gibsonia, PA; Toycen Corporation, Ogdenburg, NY; University of Florida, Gainesville, FL; University of Washington, Seattle, WA; Van Doren Designs, LLC, Southbury, CT; and William Travis Lontz, Auburn, AL, have withdrawn from this venture.

In addition, the following parties have changed their names: Foster-Miller, Inc. to QinetiQ North America, Waltham, MA; RF Extreme to Integrated Microwave Technologies, LLC, Hackettstown, NJ; DTC Communications, Inc. to Cobham Surveillance; Washington, DC; Innovative Technical Solutions, Inc. to NovaSol, Honolulu, HI; and Tech Team Government Solutions to Jacobs Technology, Ann Arbor, MI.

No other changes have been made in either the membership or planned activity of the group research project. Membership in this group research project remains open, and RTC intends to file additional written notifications disclosing all changes in membership.

On October 15, 2009, RTC filed its original notification pursuant to Section 6(a) of the Act. The Department of Justice published a notice in the Federal Register pursuant to Section 6(b) of the Act on November 30, 2009 (74 FR 62599).

The last notification was filed with the Department on July 26, 2010. A notice was published in the Federal Register pursuant to Section 6(b) of the Act on September 9, 2010 (75 FR 54914).

Patricia A. Brink,
Director of Civil Enforcement, Antitrust Division.

[FR Doc. 2011-24397 Filed 9-22-11; 8:45 am]

BILLING CODE 4410-11-M